DEPARTMENT OF JUSTICE

Antitrust Division

Notice Pursuant to the National Cooperative Research and Production Act of 1993—Mobile Satellite Services Association

Notice is hereby given that, on December 17, 2024, pursuant to section 6(a) of the National Cooperative Research and Production Act of 1993, 15 U.S.C. 4301 et seq. (“the Act”), Mobile Satellite Services Association (“MSSA”) filed written notifications simultaneously with the Attorney General and the Federal Trade Commission disclosing changes in its membership. The notifications were filed for the purpose of extending the Act's provisions limiting the recovery of antitrust plaintiffs to actual damages under specified circumstances. Specifically, Mavenir Systems, Inc., Richardson, TX; MTN Group Management Services, Johannesburg, SOUTH AFRICA; PCTEL, Clarksburg, MD; and Qualcomm, San Diego, CA, have joined as parties to this venture. Also, AI Yah Satellite Communications Company PJSC has changed its name to Space42, Abu Dhabi, UNITED ARAB EMIRATES.

No other changes have been made in either the membership or the planned activity of the venture. Membership in MSSA remains open, and MSSA intends to file additional written notifications disclosing all changes in membership.

On April 26, 2024, the Joint Venture filed its original notification pursuant to section 6(a) of the Act. The Department of Justice published a notice in the Federal Register pursuant to Section 6(b) of the Act on June 21, 2024 (89 FR 52089).

The last notification was filed with the Department on October 3, 2024. A notice was published in the Federal Register pursuant to section 6(b) of the Act on December 2, 2024 (89 FR 95237).

Suzanne Morris,
Deputy Director Civil Enforcement Operations, Antitrust Division.

[FR Doc. 2025-01817 Filed 1-27-25; 8:45 am]

BILLING CODE 4410-11-P